DEPARTMENT OF HEALTH AND HUMAN SERVICES

National Institutes of Health

Proposed Collection; 60-Day Comment Request; Collection of Grants and Contracts Data the Historically Black Colleges and Universities (HBCUs) and Small Businesses May Be Interested in Pursuing, (Office of the Director)

AGENCY: National Institutes of Health, HHS.

ACTION: Notice.

SUMMARY: In compliance with the requirement of the Paperwork Reduction Act of 1995 to provide an opportunity for public comment on proposed data collection projects, the National Institutes of Health, Office of the Director, Office of Acquisitions and Logistics Management, Small Business Program Office, will publish periodic summaries of existing projects to be submitted to the Office of Management and Budget for review and approval.

DATES: Comments regarding this information collection are best assured of having their full effect if received within 60 days of the date of this publication.

FOR FURTHER INFORMATION CONTACT: To obtain a copy of the data collection plans and instruments, submit comments in writing, or request more information on the proposed project, contact: Keondra Watts, Program Analyst, NIH, Office of the Director, Office of Acquisitions and Logistics Management, Small Business Program Office, 6701 Rockledge Dr., Bethesda, MD 20892-7786, or call non-toll-free number (301) 443-8722 or email your request, including your address to: Keondra.Watts@nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Collection of Grants and Contracts data the Historically Black Colleges and Universities and small businesses may be interested in pursuing, 0925-0767, exp., date, 01/31/2024 Extension, Office of the Director, Office of Acquisitions and Logistics Management, Small Business Program Office, National Institutes of Health.

Need and Use of Information Collection: Presidential Executive Order 13779 is the White House Initiative to Promote Excellence and Innovation at Historically Black Colleges and Universities (HBCUs). Through this initiative, Federal agencies were mandated to assist in strengthening HBCUs' ability for equitable participation in Federal programs and explore new ways to improve the relationship between the Federal Government and HBCUs. This initiative has established how the agency intends to increase the capacity of HBCUs to compete effectively for grants and contracts.

The Path to Excellence and Innovation was a comprehensive plan to expand the existing National Institutes of Health (NIH) Small Business Program in the Office of Acquisition and Logistics Management. The Path to Excellence provided a platform for increased transparency between HBCUs and the Federal Government through the provision of outreach events, training opportunities, and one-on-one assistance. There were nineteen schools and each school had chosen one or more small business teaming partner(s) to support their effort in this program. Through the collection of this information, the NIH Small Business Program Office will gain insight into what government grants and contracts are of interest to HBCUs and small businesses. This information has supported the initiative to help HBCUs and small businesses because this tool aids them to be more knowledgeable about what opportunities regarding grants and contracts exist for their organization.

Office of Management and Budget approval is requested for a 3-year extension. There are no costs to respondents other than their time. The total estimated annualized burden hours are 108.

Estimated Annualized Burden Hours
Type of respondent | Number of respondents | Number of responses per respondent | Average burden hours per response | Total annual burden hours
HBCU Pre-Solicitation Portal for Contracts and Grants | 65 | 10 | 10/60 | 108
Total |  | 650 |  | 108

Dated: October 19, 2023.
Tara A. Schwetz,
Acting Principal Deputy Director, National Institutes of Health.

[FR Doc. 2023-23690 Filed 10-26-23; 8:45 am]

BILLING CODE 4140-01-P